DEPARTMENT OF ENERGY

Federal Energy Regulatory Commission

Combined Notice of Filings # 1

December 22, 2010.

Take notice that the Commission received the following electric rate filings:

Docket Numbers: ER05-717-017.

Applicants: Spring Canyon Energy LLC.

Description: Triennial Report of Spring Canyon Energy LLC.

Filed Date: 12/20/2010.

Accession Number: 20101220-5238.

Comment Date: 5 p.m. Eastern Time on Tuesday, February 22, 2011.

Docket Numbers: ER10-3234-002.

Applicants: Eagle Power Authority, Inc.

Description: Eagle Power Authority, Inc. submits tariff filing per 35: Energy Cooperative Association of Pennsylvania Baseline Filing to be effective 12/22/2010.

Filed Date: 12/22/2010.

Accession Number: 20101222-5226.

Comment Date: 5 p.m. Eastern Time on Wednesday, January 12, 2011.

Docket Numbers: ER11-2087-002.

Applicants: FC Landfill Energy, LLC.

Description: FC Landfill Energy, LLC submits tariff filing per 35: Baseline Amendment to be effective 11/12/2010.

Filed Date: 12/22/2010.

Accession Number: 20101222-5208.

Comment Date: 5 p.m. Eastern Time on Wednesday, January 12, 2011.

Docket Numbers: ER11-2154-001.

Applicants: Twin Eagle Resource Management, LLC.

Description: Twin Eagle Resource Management, LLC submits tariff filing per 35.17(b): Amendment to MBR Application to be effective 1/1/2011.

Filed Date: 12/22/2010.

Accession Number: 20101222-5185.

Comment Date: 5 p.m. Eastern Time on Wednesday, January 12, 2011.

Docket Numbers: ER01-2217-010.

Applicants: Sunrise Power Company, LLC.

Description: Supplemental Information to Updated Market Power Analysis of Sunrise Power Company, LLC.

Filed Date: 12/21/2010.

Accession Number: 20101221-5073.

Comment Date: 5 p.m. Eastern Time on Tuesday, January 11, 2011.

Docket Numbers: ER11-2309-001.

Applicants: Southwest Power Pool, Inc.

Description: Southwest Power Pool, Inc. submits tariff filing per 35.17(b): Amendment to Formula Update—Midwest to be effective 9/1/2010.

Filed Date: 12/22/2010.

Accession Number: 20101222-5155.

Comment Date: 5 p.m. Eastern Time on Wednesday, January 12, 2011.

Docket Numbers: ER11-2317-001.

Applicants: Southwest Power Pool, Inc.

Description: Southwest Power Pool, Inc. submits tariff filing per 35.17(b): Amendment to Formula Update—OG&E, NPPD, ITC, SPS, Westar to be effective 1/1/2011.

Filed Date: 12/22/2010.

Accession Number: 20101222-5175.

Comment Date: 5 p.m. Eastern Time on Wednesday, January 12, 2011.

Docket Numbers: ER11-2433-000.

Applicants: WM Renewable Energy, L.L.C.

Description: Requests for Limited Waiver of ISO New England Inc. Forward Capacity Market Auction Qualification Rules, Shortened Notice Period, and Expedited Decision of WM Renewable Energy, L.L.C.

Filed Date: 12/21/2010.

Accession Number: 20101221-5069.

Comment Date: 5 p.m. Eastern Time on Monday, January 3, 2011.

Docket Numbers: ER11-2455-000.

Applicants: Southern California Edison Company.

Description: Southern California Edison Company submits tariff filing per 35.13(a)(2)(iii): LGIA Palen Solar Power Project SA No. 98 to be effective 12/22/2010.

Filed Date: 12/21/2010.

Accession Number: 20101221-5179.

Comment Date: 5 p.m. Eastern Time on Tuesday, January 11, 2011.

Docket Numbers: ER11-2456-000.

Applicants: University of Pennsylvania.

Description: University of Pennsylvania submits tariff filing per 35.1: Baseline Tariff Filing to be effective 12/22/2010.

Filed Date: 12/21/2010.

Accession Number: 20101221-5180.

Comment Date: 5 p.m. Eastern Time on Tuesday, January 11, 2011.

Docket Numbers: ER11-2457-000.

Applicants: ESPI New England, Inc.

Description: ESPI New England, Inc. submits tariff filing per 35.13(a)(2)(iii): Massachusetts Gas & Electric, Inc. Market Based Rate Tariff to be effective 11/23/2010.

Filed Date: 12/21/2010.

Accession Number: 20101221-5181.

Comment Date: 5 p.m. Eastern Time on Tuesday, January 11, 2011.

Docket Numbers: ER11-2458-000.

Applicants: Southern California Edison Company.

Description: Southern California Edison Company submits tariff filing per 35.13(a)(2)(iii): Settlement LGIA Brea Power II Project SA No. 235 to be effective 5/29/2010.

Filed Date: 12/21/2010.

Accession Number: 20101221-5182.

Comment Date: 5 p.m. Eastern Time on Tuesday, January 11, 2011.

Docket Numbers: ER11-2459-000.

Applicants: New York Independent System Operator, Inc.

Description: New York Independent System Operator, Inc. submits tariff filing per 35.13(a)(2)(iii): Bidding and Scheduling of Energy, Ancillary Svcs and Transmission Svc in NYCA to be effective 3/12/2011.

Filed Date: 12/21/2010.

Accession Number: 20101221-5183.

Comment Date: 5 p.m. Eastern Time on Tuesday, January 11, 2011.

Docket Numbers: ER11-2460-000.

Applicants: PJM Interconnection, L.L.C.

Description: PJM Interconnection, L.L.C. submits tariff filing per 35: Revisions to Tariff Sec 4 and Attachment C Implementing NAESB/NERC Standards to be effective 4/1/2011.

Filed Date: 12/21/2010.

Accession Number: 20101221-5185.

Comment Date: 5 p.m. Eastern Time on Tuesday, January 11, 2011.

Docket Numbers: ER11-2461-000.

Applicants: Southern California Edison Company.

Description: Southern California Edison Company submits tariff filing per 35.13(a)(2)(iii): Settlement Generation Tie-Line Agreement Brea Power II RS 481 to be effective 6/3/2010.

Filed Date: 12/22/2010.

Accession Number: 20101222-5000.

Comment Date: 5 p.m. Eastern Time on Wednesday, January 12, 2011.

Docket Numbers: ER11-2462-000.

Applicants: Big Horn Wind Project LLC.

Description: Big Horn Wind Project LLC submits tariff filing per 35.37: Revisions to Market-Based Rate Tariff to be effective 12/23/2010.

Filed Date: 12/22/2010.

Accession Number: 20101222-5011.

Comment Date: 5 p.m. Eastern Time on Wednesday, January 12, 2011.

Docket Numbers: ER11-2463-000.

Applicants: Big Horn II Wind Project LLC.

Description: Big Horn II Wind Project LLC submits tariff filing per 35.37: Revisions to Market-Based Rate Tariff to be effective 12/23/2010.

Filed Date: 12/22/2010.

Accession Number: 20101222-5012.

Comment Date: 5 p.m. Eastern Time on Wednesday, January 12, 2011.

Docket Numbers: ER11-2464-000.

Applicants: Colorado Green Holdings LLC.

Description: Colorado Green Holdings LLC submits tariff filing per 35.37: Revisions to Market-Based Rate Tariff to be effective 12/23/2010.

Filed Date: 12/22/2010.

Accession Number: 20101222-5013.

Comment Date: 5 p.m. Eastern Time on Wednesday, January 12, 2011.

Docket Numbers: ER11-2465-000.

Applicants: Hay Canyon Wind LLC.

Description: Hay Canyon Wind LLC submits tariff filing per 35.37: Revisions to Market-Based Rate Tariff to be effective 12/23/2010.

Filed Date: 12/22/2010.

Accession Number: 20101222-5014.

Comment Date: 5 p.m. Eastern Time on Wednesday, January 12, 2011.

Docket Numbers: ER11-2466-000.

Applicants: Juniper Canyon Wind Power LLC.

Description: Juniper Canyon Wind Power LLC submits tariff filing per 35.37: Revisions to Market-Based Rate Tariff to be effective 12/23/2010.

Filed Date: 12/22/2010.

Accession Number: 20101222-5015.

Comment Date: 5 p.m. Eastern Time on Wednesday, January 12, 2011.

Docket Numbers: ER11-2467-000.

Applicants: Klamath Energy LLC.

Description: Klamath Energy LLC submits tariff filing per 35.37: Revisions to Market-Based Rate Tariff to be effective 12/23/2010.

Filed Date: 12/22/2010.

Accession Number: 20101222-5016.

Comment Date: 5 p.m. Eastern Time on Wednesday, January 12, 2011.

Docket Numbers: ER11-2468-000.

Applicants: Klamath Generation LLC.

Description: Klamath Generation LLC submits tariff filing per 35.37: Revisions to Market-Based Rate Tariff to be effective 12/23/2010.

Filed Date: 12/22/2010.

Accession Number: 20101222-5017.

Comment Date: 5 p.m. Eastern Time on Wednesday, January 12, 2011.

Docket Numbers: ER11-2469-000.

Applicants: Klondike Wind Power LLC.

Description: Klondike Wind Power LLC submits tariff filing per 35.37: Revisions to Market-Based Rate Tariff to be effective 12/23/2010.

Filed Date: 12/22/2010.

Accession Number: 20101222-5018.

Comment Date: 5 p.m. Eastern Time on Wednesday, January 12, 2011.

Docket Numbers: ER11-2470-000.

Applicants: Klondike Wind Power II LLC.

Description: Klondike Wind Power II LLC submits tariff filing per 35.37: Revisions to Market-Based Rate Tariff to be effective 12/23/2010.

Filed Date: 12/22/2010.

Accession Number: 20101222-5019.

Comment Date: 5 p.m. Eastern Time on Wednesday, January 12, 2011.

Docket Numbers: ER11-2471-000.

Applicants: Klondike Wind Power III LLC.

Description: Klondike Wind Power III LLC submits tariff filing per 35.37: Revisions to Market-Based Rate Tariff to be effective 12/23/2010.

Filed Date: 12/22/2010.

Accession Number: 20101222-5020.

Comment Date: 5 p.m. Eastern Time on Wednesday, January 12, 2011.

Docket Numbers: ER11-2472-000.

Applicants: Leaning Juniper Wind Power II LLC.

Description: Leaning Juniper Wind Power II LLC submits tariff filing per 35.37: Revisions to Market-Based Rate Tariff to be effective 12/23/2010.

Filed Date: 12/22/2010.

Accession Number: 20101222-5021.

Comment Date: 5 p.m. Eastern Time on Wednesday, January 12, 2011.

Docket Numbers: ER11-2473-000.

Applicants: Pebble Springs Wind LLC.

Description: Pebble Springs Wind LLC submits tariff filing per 35.37: Revisions to Market-Based Rate Tariff to be effective 12/23/2010.

Filed Date: 12/22/2010.

Accession Number: 20101222-5022.

Comment Date: 5 p.m. Eastern Time on Wednesday, January 12, 2011.

Docket Numbers: ER11-2474-000.

Applicants: Star Point Wind Project LLC.

Description: Star Point Wind Project LLC submits tariff filing per 35.37: Revisions to Market-Based Rate Tariff to be effective 12/23/2010.

Filed Date: 12/22/2010.

Accession Number: 20101222-5024.

Comment Date: 5 p.m. Eastern Time on Wednesday, January 12, 2011.

Docket Numbers: ER11-2475-000.

Applicants: Twin Buttes Wind LLC.

Description: Twin Buttes Wind LLC submits tariff filing per 35.37: Revisions to Market-Based Rate Tariff to be effective 12/23/2010.

Filed Date: 12/22/2010.

Accession Number: 20101222-5028.

Comment Date: 5 p.m. Eastern Time on Wednesday, January 12, 2011.

Docket Numbers: ER11-2476-000.

Applicants: PJM Interconnection, L.L.C.

Description: Notice of Cancellation of Original Service Agreement No. 2513 submitted on behalf of PJM Interconnection, L.L.C.

Filed Date: 12/21/2010.

Accession Number: 20101221-5223.

Comment Date: 5 p.m. Eastern Time on Tuesday, January 11, 2011.

Docket Numbers: ER11-2477-000.

Applicants: Southern Company Services, Inc., Gulf Power Company.

Description: Filing of Updated Depreciation Rates by Southern Company Services, Inc., on behalf of Gulf Power Company.

Filed Date: 12/21/2010.

Accession Number: 20101221-5225.

Comment Date: 5 p.m. Eastern Time on Tuesday, January 11, 2011.

Docket Numbers: ER11-2478-000.

Applicants: Buchanan Generation, LLC.

Description: Buchanan Generation, LLC submits tariff filing per 35: Order No. 697 Compliance to be effective 2/22/2011.

Filed Date: 12/22/2010.

Accession Number: 20101222-5055.

Comment Date: 5 p.m. Eastern Time on Wednesday, January 12, 2011.

Docket Numbers: ER11-2479-000.

Applicants: Allegheny Energy Supply Company, LLC.

Description: Allegheny Energy Supply Company, LLC submits tariff filing per 35: Order No. 697 Compliance Filing to be effective 2/22/2011.

Filed Date: 12/22/2010.

Accession Number: 20101222-5070.

Comment Date: 5 p.m. Eastern Time on Wednesday, January 12, 2011.

Docket Numbers: ER11-2480-000.

Applicants: Green Valley Hydro, LLC.

Description: Green Valley Hydro, LLC submits tariff filing per 35: Order No. 697 Compliance Filing to be effective 2/22/2011.

Filed Date: 12/22/2010.

Accession Number: 20101222-5079.

Comment Date: 5 p.m. Eastern Time on Wednesday, January 12, 2011.

Docket Numbers: ER11-2481-000.

Applicants: Monongahela Power Company.

Description: Monongahela Power Company submits tariff filing per 35: Order No. 697 Compliance Filing to be effective 2/22/2011.

Filed Date: 12/22/2010.

Accession Number: 20101222-5090.

Comment Date: 5 p.m. Eastern Time on Wednesday, January 12, 2011.

Docket Numbers: ER11-2482-000.

Applicants: Casselman Windpower LLC.

Description: Casselman Windpower LLC submits tariff filing per 35.37: Revisions to Market-Based Rate Tariff to be effective 12/23/2010.

Filed Date: 12/22/2010.

Accession Number: 20101222-5091.

Comment Date: 5 p.m. Eastern Time on Wednesday, January 12, 2011.

Docket Numbers: ER11-2483-000.

Applicants: Hardscrabble Wind Power LLC.

Description: Hardscrabble Wind Power LLC submits tariff filing per 35.37: Revisions to Market-Based Rate Tariff to be effective 12/23/2010.

Filed Date: 12/22/2010.

Accession Number: 20101222-5092.

Comment Date: 5 p.m. Eastern Time on Wednesday, January 12, 2011.

Docket Numbers: ER11-2484-000.

Applicants: Lempster Wind, LLC.

Description: Lempster Wind, LLC submits tariff filing per 35.37: Revisions to Market-Based Rate Tariff to be effective 12/23/2010.

Filed Date: 12/22/2010.

Accession Number: 20101222-5093.

Comment Date: 5 p.m. Eastern Time on Wednesday, January 12, 2011.

Docket Numbers: ER11-2485-000.

Applicants: Locust Ridge Wind Farm, LLC.

Description: Locust Ridge Wind Farm, LLC submits tariff filing per 35.37: Revisions to Market-Based Rate Tariff to be effective 12/23/2010.

Filed Date: 12/22/2010.

Accession Number: 20101222-5094.

Comment Date: 5 p.m. Eastern Time on Wednesday, January 12, 2011.

Docket Numbers: ER11-2486-000.

Applicants: Locust Ridge Wind Farm II, LLC.

Description: Locust Ridge Wind Farm II, LLC submits tariff filing per 35.37: Revisions to Market-Based Rate Tariff to be effective 12/23/2010.

Filed Date: 12/22/2010.

Accession Number: 20101222-5095.

Comment Date: 5 p.m. Eastern Time on Wednesday, January 12, 2011.

Docket Numbers: ER11-2487-000.

Applicants: Providence Heights Wind, LLC.

Description: Providence Heights Wind, LLC submits tariff filing per 35.37: Revisions to Market-Based Rate Tariff to be effective 12/23/2010.

Filed Date: 12/22/2010.

Accession Number: 20101222-5096.

Comment Date: 5 p.m. Eastern Time on Wednesday, January 12, 2011.

Docket Numbers: ER11-2488-000.

Applicants: Streator-Cayuga Ridge Wind Power LLC.

Description: Streator-Cayuga Ridge Wind Power LLC submits tariff filing per 35.37: Revisions to Market-Based Rate Tariff to be effective 12/23/2010.

Filed Date: 12/22/2010.

Accession Number: 20101222-5098.

Comment Date: 5 p.m. Eastern Time on Wednesday, January 12, 2011.

Docket Numbers: ER11-2489-000.

Applicants: Hatchet Ridge Wind, LLC.

Description: Hatchet Ridge Wind, LLC submits tariff filing per 35.1: Hatchet Ridge Wind, LLC Rate Schedule FERC No. 1 to be effective 2/22/2011.

Filed Date: 12/22/2010.

Accession Number: 20101222-5107.

Comment Date: 5 p.m. Eastern Time on Wednesday, January 12, 2011.

Docket Numbers: ER11-2490-000.

Applicants: Tampa Electric Company.

Description: Tampa Electric Company submits tariff filing per 35.13(a)(2)(iii): Rate Schedule No. 93 with Progress Energy Florida to be effective 1/1/2011.

Filed Date: 12/22/2010.

Accession Number: 20101222-5108.

Comment Date: 5 p.m. Eastern Time on Wednesday, January 12, 2011.

Docket Numbers: ER11-2491-000.

Applicants: PJM Interconnection, L.L.C.

Description: PJM Interconnection, L.L.C. submits tariff filing per 35.13(a)(2)(iii): Revisions to the PJM Tariff Attachment Q regarding Peak Market Activity to be effective 3/1/2011.

Filed Date: 12/22/2010.

Accession Number: 20101222-5126.

Comment Date: 5 p.m. Eastern Time on Wednesday, January 12, 2011.

Docket Numbers: ER11-2492-000.

Applicants: PJM Interconnection, L.L.C.

Description: PJM Interconnection, L.L.C. submits tariff filing per 35.13(a)(2)(iii): Revisions to PJM Tariff Attach Q FTR Undiversified Credit Proposal to be effective 3/1/2011.

Filed Date: 12/22/2010.

Accession Number: 20101222-5188.

Comment Date: 5 p.m. Eastern Time on Wednesday, January 12, 2011.

Docket Numbers: ER11-2493-000.

Applicants: Mountain Wind Power, LLC.

Description: Mountain Wind Power, LLC submits tariff filing per 35: Mountain Wind Power, LLC Category Seller Request to be effective 12/23/2010.

Filed Date: 12/22/2010.

Accession Number: 20101222-5199.

Comment Date: 5 p.m. Eastern Time on Wednesday, January 12, 2011.

Docket Numbers: ER11-2494-000.

Applicants: Mountain Wind Power II LLC.

Description: Mountain Wind Power II LLC submits tariff filing per 35: Mountain Wind Power II LLC Category Seller Request to be effective 12/23/2010.

Filed Date: 12/22/2010.

Accession Number: 20101222-5205.

Comment Date: 5 p.m. Eastern Time on Wednesday, January 12, 2011.

Docket Numbers: ER11-2495-000.

Applicants: PPL Renewable Energy, LLC.

Description: PPL Renewable Energy, LLC submits tariff filing per 35: PPL Renewable Energy, LLC Northeast Triennial Market Power Update to be effective 12/23/2010.

Filed Date: 12/22/2010.

Accession Number: 20101222-5211.

Comment Date: 5 p.m. Eastern Time on Wednesday, January 12, 2011.

Docket Numbers: ER11-2496-000.

Applicants: Midwest Independent Transmission System Operator, Inc.

Description: Midwest Independent Transmission System Operator, Inc. submits tariff filing per 35.13(a)(2)(iii): Midwest ISO-PJM JOA to be effective 9/17/2010.

Filed Date: 12/22/2010.

Accession Number: 20101222-5222.

Comment Date: 5 p.m. Eastern Time on Wednesday, January 12, 2011.

Docket Numbers: ER11-2497-000.

Applicants: Great American Power, LLC.

Description: Great American Power, LLC submits tariff filing per 35.12: Petition for Approval of Initial Market-Based Rate Tariff to be effective 1/1/2011.

Filed Date: 12/22/2010.

Accession Number: 20101222-5231.

Comment Date: 5 p.m. Eastern Time on Wednesday, January 12, 2011.

Docket Numbers: ER11-2498-000.

Applicants: PacifiCorp.

Description: PacifiCorp submits tariff filing per 35: OATT Revised Attachments C and Q to be effective 4/1/2011.

Filed Date: 12/22/2010.

Accession Number: 20101222-5235.

Comment Date: 5 p.m. Eastern Time on Wednesday, January 12, 2011.

Docket Numbers: ER11-2499-000.

Applicants: New York Independent System Operator, Inc.

Description: New York Independent System Operator, Inc. submits tariff filing per 35.13(a)(2)(iii): LGIA Among NYISO, National Grid and Atlantic Wind to be effective 12/13/2010.

Filed Date: 12/22/2010.

Accession Number: 20101222-5262.

Comment Date: 5 p.m. Eastern Time on Wednesday, January 12, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-33151 Filed 1-3-11; 8:45 am]

BILLING CODE 6717-01-P